UNITED STATES INTERNATIONAL TRADE COMMISSION

[USITC SE-15-007]

Government in the Sunshine Act Meeting Notice

AGENCY HOLDING THE MEETING: United States International Trade Commission.

TIME AND DATE: March 6, 2015 at 2:00 p.m.

PLACE: Room 101, 500 E Street SW., Washington, DC 20436, Telephone: (202) 205-2000.

STATUS: Open to the public.

MATTERS TO BE CONSIDERED: 1. Agendas for future meetings: none.

2. Minutes.

3. Ratification List.

4. Vote in Inv. Nos. 701-TA-528-529 and 731-TA-1264-1268 (Preliminary)(Certain Uncoated Paper from Australia, Brazil, China, Indonesia, and Portugal). The Commission is currently scheduled to complete and file its determinations on March 9, 2015; views of the Commission are currently scheduled to be completed and filed on March 16, 2015.

5. Outstanding action jackets: none.

In accordance with Commission policy, subject matter listed above, not disposed of at the scheduled meeting, may be carried over to the agenda of the following meeting.

By order of the Commission.
Issued: February 23, 2015.
William R. Bishop,
Supervisory Hearings and Information Officer.

[FR Doc. 2015-04039 Filed 2-23-15; 4:15 pm]

BILLING CODE P